INTERNATIONAL TRADE COMMISSION

[Investigation Nos. 701-TA-382 and 731-TA-800, 801, and 803 (Fourth Review)]

Stainless Steel Sheet and Strip From Japan, South Korea, and Taiwan Determinations

On the basis of the record ¹ developed in the subject five-year reviews, the United States International Trade Commission (“Commission”) determines, pursuant to the Tariff Act of 1930 (“the Act”), that revocation of the countervailing duty order on stainless steel sheet and strip from South Korea and the antidumping duty orders on stainless steel sheet and strip from Japan, South Korea, and Taiwan would be likely to lead to continuation or recurrence of material injury to an industry in the United States within a reasonably foreseeable time.²

¹ The record is defined in § 207.2(f) of the Commission's Rules of Practice and Procedure (19 CFR 207.2(f)).

² Commissioners Jason E. Kearns and Randolph J. Stayin not participating.

Background

The Commission instituted these reviews on September 1, 2022 (87 FR 53780) and determined on December 5, 2022, that it would conduct full reviews (87 FR 78994, December 5, 2022). Notice of the scheduling of the Commission's reviews and of a public hearing to be held in connection therewith was given by posting copies of the notice in the Office of the Secretary, U.S. International Trade Commission, Washington, DC, and by publishing the notice in the Federal Register on March 7, 2023 (88 FR 15456). The Commission conducted its hearing on August 17, 2023. All persons who requested the opportunity were permitted to participate.

The Commission made these determinations pursuant to section 751(c) of the Act (19 U.S.C. 1675(c)). It completed and filed its determinations in these reviews on October 18, 2023. The views of the Commission are contained in USITC Publication 5466 (October 2023), entitled Stainless Steel Sheet and Strip from Japan, South Korea, and Taiwan: Investigation Nos. 701-TA-382 and 731-TA-800, 801, and 803 (Fourth Review).

By order of the Commission.
Issued: October 18, 2023.
Lisa Barton,
Secretary to the Commission.

[FR Doc. 2023-23401 Filed 10-23-23; 8:45 am]

BILLING CODE 7020-02-P